ENVIRONMENTAL PROTECTION AGENCY

40 CFR Part 52

[EPA-R06-OAR-2011-0695; FRL-9747-2]

Approval and Promulgation of Implementation Plans; New Mexico; Albuquerque/Bernalillo County: Motor Vehicle Inspection

AGENCY: Environmental Protection Agency (EPA).

ACTION: Final rule.

SUMMARY: EPA is finalizing approval of revisions from the Governor of New Mexico to the State Implementation Plan for Air Quality for the City of Albuquerque/Bernalillo County area pursuant to the Clean Air Act. The revision includes addition of emissions inspections for 1998 and newer diesel vehicles less than 10,001 pounds and all gasoline/electric hybrid vehicles; changes test frequency for some model year vehicles; allows motorists that are financially incapable of paying for certain repairs to apply for a time extension; makes minor test procedure changes; codifies certain regulatory language from the VPMD Procedures Manual; reorganizes 20.11.100 NMAC; and makes numerous non-substantive changes to clarify and improve readability of these rules. This action is being taken under the Clean Air Act (the Act).

DATES: This rule is effective on December 5, 2012.

ADDRESSES: EPA has established a docket for this action under Docket Identification No. EPA-R06-OAR-2011-0695. All documents in the docket are listed in the http://www.regulations.gov index. Although listed in the index, some information is not publicly available, e.g., Confidential Business Information or other information the disclosure of which is restricted by statute. Certain other material, such as copyrighted material, will be publicly available only in hard copy. Publicly available docket materials are available either electronically in http://www.regulations.gov or in hard copy at the Air Planning Section (6PD-L), Environmental Protection Agency, 1445 Ross Avenue, Suite 700, Dallas, Texas 75202-2733. EPA requests that if at all possible, you contact the person listed in the FOR FURTHER INFORMATION CONTACT paragraph below to make an appointment. The Region Office's official hours of business are 8:30 a.m. to 4:30 p.m. weekdays except for Federal holidays.

FOR FURTHER INFORMATION CONTACT: If you have questions concerning today's final action, please contact Ms. Sandra Rennie (6PD-L), Air Planning Section, Environmental Protection Agency, Region 6, 1445 Ross Avenue (6PD-L), Suite 1200, Dallas, Texas 75202-2733, telephone (214) 665-7367; fax number (214) 665-6762; email address rennie.sandra@epa.gov.

SUPPLEMENTARY INFORMATION: Throughout this document the following terms have the meanings described below:

“We”, “us” and “our” refer to EPA.

Table of Contents

I. What is the background for this rule?

II. What comments did we receive on the proposed rule?

III. What action is EPA taking?

IV. Statutory and Executive Order Reviews

I. What is the background for this rule?

The State of New Mexico on behalf of the City of Albuquerque submitted revisions to the motor vehicle inspection and maintenance (I/M) program in Bernalillo County and the City of Albuquerque on July 28, 2011. We proposed approval of these revisions on August 1, 2012 (77 FR 45530). For EPA's full analysis of these revisions, the reader is referred to that proposal and the Technical Support Document for this rulemaking, which is available on line at http://www.regulations.gov, Docket number EPA-R06-OAR-2011-0695. Among the revisions to the I/M rules at 20.11.100 NMAC are: expanding the vehicle I/M program to cover model year 1998 and newer diesel motor vehicles greater than 1,000 and less than 10,001 pounds; including all hybrid vehicle gasoline engines; changing the test frequency for some model year vehicles; revising an exemption for certain low income vehicle owners from the $300 repair or repair estimate threshold; and revising some test procedures. Regulatory language from the VPMD (Vehicle Pollution Management Division) Procedures Manual is now codified in the I/M rules. Numerous non-substantive ministerial revisions were also proposed for approval because they add clarity and improve readability of the rules.

Although not required by Federal rule, model year 1998 and newer compression ignition powered (diesel) motor vehicles of a certain size are now included in the vehicle I/M program. Diesel vehicles that are greater than 1,000 pounds gross vehicle weight (GVW) but less than 10,001 pounds GVW are covered by On-Board Diagnostics second generation (OBDII) testing. Testing for this fuel type will start on January 1, 2013, as adopted in the rule. Gasoline/electric hybrids are no longer exempt from testing. Technology improvements have made testing the small gasoline engines found in hybrids now possible.

A clarification is made about the newest model years that are exempt from testing. The term “two registration periods” is clarified to mean four (4) years. Model year 1975-1985 vehicles are now required to get tested on a biennial schedule. Previously, these vehicles were on an annual testing schedule. Other provisions in the rule require vehicles in this age group to have annual inspections if their HC (hydrocarbon) or CO (carbon monoxide) emissions are more than 75% of the standard for those pollutants. Motor vehicles 35 years old or older are now exempt from testing.

Minor changes to test procedures include requiring a visual inspection for a catalytic converter on all OBDII-equipped vehicles. The program is also limiting the gas cap pressure check to 1975-2005 vehicles.

The requirement for spending at least $300 for repairs to apply for a time extension has been revised to require a repair estimate of $300 or more from a licensed repair facility and proof that the individual is financially incapable of paying for the needed repairs.

Prior to the rule revision before us, many program procedures were contained in the VPMD Procedures Manual. The Program determined that this manual was out of date but some of the regulatory language needed to be retained. Portions of the manual were codified in the rules verbatim. Non-regulatory procedure information is now contained in technical guidance that is not part of the SIP.

As a result of the codification process, some additional terms were added to the definitions section. These include Audit, Clean piping, Clean scanning, Covert audit, Covert surveillance, Emissions analyzer, Emissions inspection system or EIS, Fleet, Gas cap test, Overt audit, Pretesting, and Vehicle information database or VID. Definitions adopted for these terms are those that are commonly used in the industry or similar to terms defined in the federal regulations.

In the process of codifying language from the Procedures Manual, the I/M rules were reorganized with some sections being moved from one numbered section to another. Useless and/or anachronistic references were removed or revised to be more meaningful.

II. What comments did we receive on the proposed rule?

We received no comments on the proposed rule during the 30 day comment period that ended on August 31, 2012.

III. What action is EPA taking?

EPA is finalizing approval of revisions to the New Mexico SIP for the City of Albuquerque/Bernalillo County submitted on July 28, 2011. These include revisions to the fuel type subject to testing, the model years subject to testing, certain test procedures, an opportunity for a time extension for motorists that are financially incapable of paying for repairs of $300 or more, codification of procedures from the Procedures Manual, addition of definitions, and other non-substantive revisions. We believe these revisions enhance the SIP and improve the effectiveness of the I/M program. This action is being taken under section 110 of the Act.

IV. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. .L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 20, 2010. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Nitrogen dioxide, Ozone, Particulate matter, Reporting and recordkeeping requirements, Sulfur oxides, Volatile organic compounds.

Dated: October 17, 2012.
Ron Curry,
Regional Administrator, Region 6.

Therefore, 40 CFR chapter I is amended as follows:

PART 52—APPROVAL AND PROMULGATION OF IMPLEMENTATION PLANS

1. The authority citation for part 52 continues to read as follows:

Authority: 42 U.S.C. 7401 et seq.

Subpart GG—New Mexico

2. Amend the second table in § 52.1620(c) entitled “EPA Approved Albuquerque/Bernalillo County, NM Regulations” by revising the entry for “Part 100 (20.11.100 NMAC), Motor Vehicle Inspection—Decentralized,” to read as follows:

§ 52.1620 Identification of plan.

* * * * *

(c) * * *

* * * * *

EPA-Approved Albuquerque/Bernalillo County, NM Regulations
State citation | Title/subject | State approval/ effective date | EPA approval date | Explanation
New Mexico Administrative Code (NMAC) Title 20—Environment Protection, Chapter 11—Albuquerque/Bernalillo County Air Quality Control Board
* * * * * * *
Part 100 (20.11.100 NMAC) | Motor Vehicle Inspection—Decentralized | 5/11/2011 | 11/5/12, [Insert FR page number where document begins]
* * * * * * *

[FR Doc. 2012-26677 Filed 10-30-12; 8:45 am]

BILLING CODE 6560-50-P